DEPARTMENT OF HOMELAND SECURITY

[Docket No. CISA-2019-0012]

Technical Resource for Incident Prevention (TRIPwire) User Registration and Questionnaire

AGENCY: Infrastructure Security Division (ISD), Cybersecurity and Infrastructure Security Agency (CISA), Department of Homeland Security (DHS).

ACTION: 60-Day notice and request for comments; revision, 1670-0028.

SUMMARY: DHS CISA ISD will submit the following information collection request (ICR) to the Office of Management and Budget (OMB) for review and clearance in accordance with the Paperwork Reduction Act of 1995.

DATES: Comments are due by October 28, 2019.

ADDRESSES: You may submit comments, identified by docket number CISA-2019-0012, by one of the following methods:

• Federal eRulemaking Portal: http://www.regulations.gov. Please follow the instructions for submitting comments.

• Email: dennis.molloy@cisa.dhs.gov. Please include docket number CISA-2019-0012 in the subject line of the message.

• Mail: Written comments and questions about this Information Collection Request should be forwarded to DHS/CISA/ISD, ATTN: 1670-0028, 245 Murray Lane SW, Mail Stop 0609, Washington, DC 20598-0609.

Instructions: All submissions received must include the words “Department of Homeland Security” and the docket number for this action. Comments received will be posted without alteration at http://www.regulations.gov, including any personal information provided.

Docket: For access to the docket and comments received, please go to www.regulations.gov and enter docket number CISA-2019-0012.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Dennis Molloy, 703-235-9388, dennis.molloy@cisa.dhs.gov.

SUPPLEMENTARY INFORMATION: The CISA ISD Office of Bombing Prevention (OBP) has a leading role in implementation of the national counter-IED policy, articulated through Presidential Policy Directive 17 (PPD-17) Countering IEDs), serving as the Deputy Administrator of the federal interagency Joint Program Office for Countering Improvised Explosive Devices (JPO C-IED) and working in close collaboration with the White House National Security Council. The JPO C-IED coordinates and tracks Federal government progress in building national counter-IED capabilities. OBP also leads the DHS in implementation of the national counter-IED policy, serving as the DHS Counter-IED Program Management Office and chairing the DHS IED Working Group.

OBP is instrumental in aligning DHS and national counter-IED efforts through centralized and effective coordination of ongoing programs with national policy and strategy goals, resulting in better resource allocation within OBP and across DHS and our Federal, state, local, tribal, territorial and private sector partners.

TRIPwire (Technical Resource for Incident Prevention) is the DHS online, collaborative information-sharing network for bomb technicians, first responders, military personnel, government officials, intelligence analysts, and select private sector security professionals to increase awareness of evolving IED tactics, techniques, and procedures, as well as incident lessons learned and counter-IED preparedness information.

Users from Federal, State, local, and tribal government entities, as well as business and/or other for-profit industries, can elect to register for TRIPwire access. The TRIPwire portal contains sensitive information related to terrorist use of explosives and therefore user information is needed to verify eligibility and access to the system.

There are three main instruments within this collection: TRIPwire User Registrations, TRIPwire Revalidations, and TRIPwire Questionnaire. The information collected during the TRIPwire user registration process is reviewed electronically by the OBP to validate the user's “need to know,” which determines their eligibility for and access to TRIPwire. OBP verifies users need for access by confirming that a valid email address is used to register and checking employment references.

Annually, users are revalidated based on the information provided during their registration. For revalidation, users and employment references receive a system generated email to validate that access is still required and their information is still accurate.

OBP sends registered users a quarterly questionnaire seeking feedback as to how registrants use TRIPwire information, products, and tools. OBP uses the information collected during a quarterly questionnaire to review and improve the effectiveness and adequacy of the TRIPwire content and system features.

TRIPwire registration is user-driven and is completed electronically via the secure TRIPwire interface. Users are required to have a computer and access to the internet. The registration process requires users to provide their full name, assignment, citizenship, job title, employer name, professional address and contact information, as well as an Employment Verification Contact and their contact information. Notifications regarding the user registration are handled via electronic submission responses and/or email. In addition to electronic registration, TRIPwire uses automated notifications to registered users when/if their account or password is set to expire as well as annual re-verification of users' need for access to TRIPwire.

The TRIPwire Questionnaire is also collected electronically via a Survey Monkey link that is emailed to respondents. The Survey Monkey settings selected ensure that submissions are anonymous, and that an IP address is not collected.

The changes to the collection since the previous OMB approval include: Updating the collection title, updating the TRIPwire User registration page, clarifying the revalidation burden, and adding a TRIPwire Questionnaire. Overall, these changes result in a decrease in burden estimates and costs.

This is a revision and renewal of an information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: Technical Resource for Incident Prevention (TRIPwire) User Registration and Questionnaire.

OMB Control Number: 1670-0028.

Frequency: Annually.

Affected Public: State, Local, Tribal, and Territorial Governments and Private Sector Individuals.

Number of Annualized Respondents: 4,333.

Estimated Time per Respondent: 0.17 hours, 0.017 hours, 0.083 hours.

Total Annualized Burden Hours: 422 hours.

Total Annualized Respondent Opportunity Cost: $13,736.

Total Annualized Respondent Out-of-Pocket Cost: $0.

Total Annualized Government Cost: $7,447.

Larry L. Willis,
Business Management Branch Chief.

[FR Doc. 2019-18379 Filed 8-26-19; 8:45 am]

BILLING CODE 9110-9P-P